DEPARTMENT OF COMMERCE

International Trade Administration

Education Mission to Central America; March 16-19, 2015

AGENCY: International Trade Administration, Department of Commerce.

ACTION: Amendment.

SUMMARY: The United States Department of Commerce, International Trade Administration is amending the Notice published at 79 FR 34287, June 16, 2014, for the education mission to El Salvador and Honduras, with an optional stop in Nicaragua, from March 16-19, 2015, to revise the number of participants from 15 to 20.

SUPPLEMENTARY INFORMATION: Amendment to Revise the Number of Participants.

Background

This is the International Trade Administration Education Team's first trade mission to Central America, and the response has been robust. With this high level of interest, it has been determined that five (5) additional participants can be accommodated in the destination countries, raising the maximum number to 20.

Amendments

For the reasons stated above, the Participation Requirements section, third sentence, is amended to state “The mission will open on a rolling basis to a minimum of 12 and a maximum of 20 appropriately accredited U.S. educational institutions.”

FOR FURTHER INFORMATION CONTACT:

U.S. Export Assistance Center Silicon Valley, Gabriela Zelaya, International Trade Specialist, Tel: 408-535-2757, ext. 107, Email: gabriela.zelaya@trade.gov.

Laura Gimenez, Commercial Officer, El Salvador, Tel: (011-503) 2501-3221, Email: laura.gimenez@trade.gov.

Aileen Nandi, Commercial Officer, El Salvador, Tel: (408) 535-2757, ext. 102, Email: aileen.nandi@trade.gov.

U.S. Export Assistance Center Lexington, Sara Moreno, International Trade Specialist, Tel: 859-225-7001, Email: sara.moreno@trade.gov.

Frank Spector,
International Trade Specialist.

[FR Doc. 2015-01631 Filed 1-28-15; 8:45 am]

BILLING CODE 3510-FP-P